DEPARTMENT OF THE INTERIOR

Bureau of Land Management

[CO-530-1430-ES; COC-63839]

Notice of Realty Action: Proposed Classification of Public Lands for Recreation and Public Purposes Lease in Rio Grande County, CO

AGENCY: Bureau of Land Management, Interior.

ACTION: Correction.

SUMMARY: This action corrects Notice of Realty Action: Proposed Classification of Public Lands for Recreation and Public Purposes lease in Rio Grande County, Colorado, 68 FR 35691, published June 16, 2003.

On page 35691, third column, top of the page, should be corrected from sec. 27, metes and bounds tract in lot 9 and the NE1/44NE1/4 to sec. 27, metes and bounds tract in lot 9 and the NE1/4SE1/4.

Dated: September 15, 2003.
Dean H. Erhard,
Del Norte Field Manager.

[FR Doc. 03-25617 Filed 10-8-03; 8:45 am]

BILLING CODE 4310-JB-P